POSTAL SERVICE

39 CFR Part 111

Changes to Move Update Standards

AGENCY: Postal Service™.

ACTION: Proposed rule, revised.

SUMMARY: The Postal Service proposes to revise Mailing Standards of the United States Postal Service, Domestic Mail Manual (DMM®) to add 602.5.0 and 602.6.0, and to revise the Move Update standards regarding change of address orders, by including in the revised standards change of address notices filed by postal employees. The Postal Service also deletes multiple sections throughout the DMM to centralize Move Update and ZIP Code™ accuracy standards under section 602.

DATES: We must receive your comments on or before August 11, 2011.

ADDRESSES: Mail or deliver written comments to the manager, Product Classification, U.S. Postal Service,® 475 L'Enfant Plaza, SW., Room 4446, Washington, DC 20260-5015. You may inspect and photocopy all written comments at USPS® Headquarters Library, 475 L'Enfant Plaza, SW., 11th Floor North, Washington, DC, between 9 a.m. and 4 p.m., Monday through Friday. Email comments, containing the name and address of the commenter, may be sent to: MailingStandards@usps.gov, with a subject line of “Move Update.” Faxed comments are not accepted.

FOR FURTHER INFORMATION CONTACT: Jim Wilson at 901-681-4600, or Bill Chatfield at 202-268-7278.

SUPPLEMENTARY INFORMATION: On September 21, 2010, the Postal Service published a proposed rule in the Federal Register (75 FR 57410-57412) to include all changes-of-address, whether filed by customers or postal employees, as subject to Move Update requirements. In addition, the proposal announced that the online publication, Guide to Move Update, is the appropriate source for additional information and procedures for meeting the Move Update requirements.

The prior proposal also would have changed the timeframe for providing address correction and nixie notices without charge for First-Class Mail®, Standard Mail®, and Bound Printed Matter (BPM) pieces eligible for full-service Intelligent Mail® prices. The Postal Service is not including that initiative in this rule; for now, we will retain the current timeframe for notices without charge for pieces eligible for full-service prices.

In this notice we provide an overview of the revised proposal, a summary of comments on the original proposal, our response to those comments, and the proposed new mailing standards to implement this proposal.

Change of Address Orders

The Postal Service proposes that the Move Update standards are met, not only by updating address records from customer-filed change-of-address (COA) orders, but also from COA orders supplied by postal employees. Customers occasionally move from a street address or allow their Post Office™ Box service to expire without providing a new address to redirect their mail. In these instances, the customer no longer receives mail at that address, and the postal employee files either a “Moved Left No Address” (MLNA) or a “Box Closed No Order” (BCNO) COA order. These two types of COAs are included in the address change databases the Postal Service maintains. To comply with the new proposed Move Update standards, mailers must not include pieces in presorted mailings to these undeliverable addresses once the effective date of the COA is older than 95 days.

However, the Postal Service understands that some mailers may have difficulty isolating MLNAs and BCNOs in their mailing processes. Therefore, to allow mailers sufficient time to modify their mailing systems to properly handle MLNA and BCNO occurrences, MLNAs and BCNOs with effective dates older than 95 days would not be classified as failures to update a COA by Performance Based Verification (PBV) Move Update verifications until a year after publication of the final rule. After the one-year grace period, MLNA/BCNO addresses with effective dates between 95 days and 18 months would be treated by PBV verifications for commercial mailings of First-Class Mail and Standard Mail pieces as failures to update a COA.

Guide to Move Update

The online USPS publication Guide to Move Update (available on the RIBBS® Web site at http://ribbs.usps.gov) provides general information and recommendations about each authorized Move Update method. This publication also provides specific information on the best use of the methods available for meeting the Move Update standards. It describes in detail the four primary and the two alternative Move Update methods available for updating mailing lists.

Since the amount of information on Move Update involves numerous technical details in addition to the basic standards, it is not appropriate to include all the information within the DMM. Therefore, we reference the Guide to Move Update where relevant and appropriate in sections of the DMM. The Guide to Move Update is accessible online at: ribbs.usps.gov/move_update/documents/tech_guides/GuidetoMoveUpdate.pdf.

Comments and USPS Responses

General

We received comments from two customers and eight mailer associations. A general comment recommended that the Postal Service explain the financial and other service-related benefits to users of the mail as a consequence of this rule. Improving the quality and currency of addresses used on mail facilitates the efficient delivery of the mail and reduces cost associated with unnecessary handling and processing of mailpieces that are undeliverable-as-addressed.

Several associations suggested that the USPS should review all address-related recommendations made by appropriate Mailers' Technical Advisory Committee (MTAC) workgroups to make sure that those issues are being addressed, and also that we should provide an update on all work pertaining to the undeliverable-as-addressed (UAA) reduction goal, including data on address quality improvements and specific factors that contributed to those results. The USPS appreciates and values the input and recommendations submitted through the MTAC Workgroup process and, where implementation of recommendations is practical and beneficial to the mutual interests of the mailing industry and the USPS, the USPS will take action to adopt MTAC Workgroup-submitted recommendations. We have made several responsive presentations to MTAC concerning the state of address quality and the performance by the mailing industry towards the goal to reduce UAA by 50 percent.

One association requested that the USPS acknowledges that the pricing for First-Class Mail includes the cost to handle return mail. The cited statements that First-Class Mail prices “factor in the cost” of UAA mail is a reasonable summary of the relationship between costs and prices under the previous regulatory framework (the Postal Reorganization Act or PRA), in which a markup factor was added to attributable cost per piece to determine prices. Under the current Postal Accountability and Enhancement Act framework, however, prices are not directly connected to costs; price increase percentages cannot exceed the CPI price-cap even if the attributable cost per piece has risen faster than the CPI. In any case, because of the way the Move Update assessment is applied, changes in the assessment formula (tolerance or per-piece assessment) are included in price-cap calculations.

One association asserted that the original proposed rule represented an instance of imposing rules that require major investment by mailers for little or no return, thus creating additional costs that functionally act as an increase in postage. In the association's opinion, the rules become unfunded mandates. The statement went on to recommend that USPS consider the impact of the burdens inherent in the costs associated with rules changes. The association suggested that ways can be found to reduce the customer impact, starting with a realistic assessment of the costs associated with the rules change.

The USPS believes we have demonstrated sensitivity to the impact of new requirements that result in changes for mailers and mailing systems. We typically make accommodations to mailing industry interests to implement necessary changes in a reasonable manner that are minimally intrusive to the mailing industry. Examples of this accommodation are the 3-year implementation cycle of the DPV (delivery-point validation) changes, the 2-year gradual implementation of the Suite®; changes, and the 1-year implementation deferral of the MLNA/BCNO changes from the date of the original proposal. And, in recognition of the comments, we are proposing to extend that deferral so that full implementation would begin one year after publication of the final rule. On an ongoing basis, the USPS will continue to seek opportunities to work collaboratively with the mailing industry to resolve issues of importance to both the mailing industry and the USPS. Better address quality benefits mailers and the customers they are trying to reach, because better quality current addresses enable product offers to reach addressees more quickly, resulting in higher and quicker response rates.

One association commented extensively on the previously proposed change in the Move Update tolerance, a subject of a different proposal.

Moved Left No Address (MLNA) and Box Closed No Order (BCNO) Notices

Several commenters asked that the USPS eliminate the MLNA/BCNO requirement until all data quality issues are rectified. The USPS believes that it is appropriate to include MLNA/BCNO postal employee-filed changes in the Move Update Performance Based Verification process. The 95-day allowance granted to mailers provides sufficient time for customers for whom an MLNA or BCNO entry into the change-of-address data has been made to resolve any data quality issues. The USPS does not believe that mailers should continue to send potentially sensitive mail at presorted prices to customers at addresses where it is known that customers no longer receive mail, when the result is that the USPS must re-handle this undeliverable-as-addressed mail.

Several commenters urged the USPS to change MLNA and BCNO notices for Periodicals to nixie notifications or ensure the accuracy and consistency of the notices for multiple mailings to the same addressee. The USPS has historically treated MLNA and BCNO notices as change-of-address notifications and not as nixies. This is demonstrated in USPS documents, such as Publication 8A, Address Change Service, that define MLNA and BCNO as carrier-filed actions.

One mailer asserted that the MLNA/BCNO requirement will cause mailers to consider moving away from the mail due to the cost to provide solutions. The mailer further stated that this concern has been escalated on numerous occasions with the USPS management team, and recommended elimination of the MLNA/BCNO additional requirement. The USPS has made numerous accommodations of mailing industry concerns regarding the enforcement of the Move Update requirement for MLNA/BCNO changes-of-address orders. The USPS believes the revised accommodation to implement this change one year from publication of the Federal Register final rule provides sufficient time for the mailing industry to implement the changes necessary to handle these transactions. The same mailer also stated that the USPS should establish quality measurements to ensure that accurate and timely controls for issuance of MLNA/BCNO notices are in place. This mailer suggested that the USPS should be required to provide initial projections and detailed results of the savings associated with mailing requirements implemented to ensure accountability for proposed savings. Including the Move Update standard for MLNA/BNCO records protects against the revenue lost by the USPS from providing mailers reduced prices for mailpieces that will incur higher USPS processing costs.

One association requested that the USPS confirm that the PBV process is not applied to single-piece full-rate mailings as the DMM does not state the need to apply PBV to full rate First-Class Mail pieces. The USPS confirms that mailpieces sent to MLNA or BCNO addresses at First-Class Mail single-piece prices are not subject to PBV (Performance Based Verification).

Temporarily Away Notices

Several commenters requested that we clarify the proposed treatment of temporary moves in terms of Move Update requirements. Temporary change-of-address (COA) orders have never been included in the Move Update standards, and there is no intent to include these records in Move Update standards in the future. The USPS will not subject temporary COA notices to the 95-day test, and will not charge mailers for additional temporary COA notices provided after 95 days beyond the date of the first temporary COA notification through full-service ACS.

Guide To Move Update

Several commenters stated that we should develop other means (rather than the Guide to Move Update) for communicating changes in policies and procedures pertaining to Move Update. The Guide to Move Update is the USPS response to requests made by the mailing industry for a single source document that provides greater detail and additional information and recommendations on how mailers could use the approved Move Update products and services to meet the Move Update requirements. The Guide is not intended to be the vehicle for implementing changes in Move Update policies or price eligibility requirements; instead these changes will continue to be communicated through the DMM.

Several commenters suggested that the USPS should publish changes to the Guide to Move Update in the Federal Register as a proposed rule so that all changes are vetted and visible to customers for their consideration and comments. One mailer suggested that a change management process should be used to notate modifications of requirements. The USPS does not believe the publication of changes made within the Guide to Move Update warrants the issuance of a Federal Register notice. The Guide to Move Update is not and will not be used to make changes to the Move Update requirements. It is intended to be a resource for the mailing industry to understand how various USPS programs and services can be used by a mailer to meet Move Update requirements. Where changes to Move Update requirements may occur, the standard processes for incorporating changes within the DMM will be followed. In response to industry concerns, the USPS will adopt a version control process as a standard method for describing changes within the Guide to Move Update.

Effective Dates

We would implement the changes related to COAs filed for MLNA and BCNO addresses one year from the date of publication of a final rule.

Although we are exempt from the notice and comment requirements of the Administrative Procedure Act [5 U.S.C of 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Letters and Cards

* * * * *

230 First-Class Mail

233 Prices and Eligibility

* * * * *

3.0 Basic Standards for First-Class Mail Letters

* * * * *

3.5 Move Update Standard

3.5.1 Basic Standards

[Revise text of 3.5.1 to read as follows:]

The Move Update standard requires the periodic matching of a mailer's address records with all change-of-address orders maintained by the USPS. For this standard, address is a specific address associated with a specific occupant name. The USPS Guide to Move Update (at ribbs.usps.gov) has more information on the methods for meeting this standard. Each address in a mailing at First-Class Mail commercial letter prices must meet the requirements in 602.5.0.

[Delete 3.5.2, USPS-Approved Methods, and 3.5.3, Mailer Certification, in their entirety and renumber current item 3.5.4 as the new 3.5.2.]

* * * * *

3.6 ZIP Code Accuracy

[Delete the title of 3.6.1, Basic Standard, and move the text of 3.6.1 under 3.6 and revise as follows:]

The ZIP Code accuracy standard is a means of ensuring that the 5-digit ZIP Code in the delivery address correctly matches the delivery address information. For the purposes of this standard, address means a specific address associated with a specific 5-digit ZIP Code. Each address in a mailing at commercial First-Class Mail letter prices must meet the ZIP Code accuracy requirements in 602.6.0.

[Delete 3.6.2, USPS-Approved Methods, and 3.6.3, Mailer Certification, in their entirety.]

* * * * *

240 Standard Mail

243 Prices and Eligibility

* * * * *

3.0 Basic Standards for Standard Mail Letters

* * * * *

3.8 ZIP Code Accuracy

[Delete the title of 3.8.1, Basic Standard, and move the text of 3.8.1 under 3.8 and revise as follows:]

The ZIP Code accuracy standard is a means of ensuring that the 5-digit ZIP Code in the delivery address correctly matches the delivery address information. For the purposes of this standard, address means a specific address associated with a specific 5-digit ZIP Code. Each address in a mailing at Standard Mail letter prices must meet the ZIP Code accuracy requirements in 602.6.0.

[Delete 3.8.2, USPS-Approved Methods, and 3.8.3, Mailer Certification, in their entirety.]

* * * * *

3.9 Move Update Standards

3.9.1 Basic Standards

[Revise text of 3.9.1 to read as follows:]

The Move Update standard requires the periodic matching of a mailer's address records with all change-of-address orders maintained by the USPS. For this standard, address is a specific address associated with a specific occupant name. The USPS Guide to Move Update (at ribbs.usps.gov) has more information on the methods for meeting this standard. Each address in a mailing at Standard Mail letter prices must meet the requirements in 602.5.0.

* * * * *

[Delete 3.9.2, USPS-Approved Methods, and 3.9.3, Mailer Certification, in their entirety and renumber current item 3.9.4 as the new 3.9.2.]

* * * * *

300 Commercial Flats

* * * * *

330 First-Class Mail

333 Prices and Eligibility

* * * * *

3.0 Eligibility Standards for First-Class Mail Flats

* * * * *

3.5 Move Update Standards

3.5.1 Basic Standards

[Revise text of 3.5.1 to read as follows:]

The Move Update standard requires the periodic matching of a mailer's address records with all change-of-address orders maintained by the USPS. For this standard, address is a specific address associated with a specific occupant name. The USPS Guide to Move Update (at http://ribbs.usps.gov) has more information on methods for meeting this standard. Each address in a mailing at commercial First-Class Mail flats prices must meet the requirements in 602.5.0.

* * * * *

[Delete 3.5.2, USPS-Approved Methods, and 3.5.3, Mailer Certification, in their entirety and renumber current item 3.5.4 as the new 3.5.2.]

* * * * *

3.6 ZIP Code Accuracy

[Delete the title of 3.6.1, Basic Standard, and move the text of 3.6.1 under 3.6 and revise as follows:]

The ZIP Code accuracy standard is a means of ensuring that the 5-digit ZIP Code in the delivery address correctly matches the delivery address information. For the purposes of this standard, address means a specific address associated with a specific 5-digit ZIP Code. Each address in a mailing at commercial First-Class Mail flats prices must meet the ZIP Code accuracy requirements in 602.6.0.

[Delete 3.6.2, USPS-Approved Methods, and 3.6.3, Mailer Certification, in their entirety.]

* * * * *

340 Standard Mail

343 Prices and Eligibility

* * * * *

3.0 Basic Standards for Standard Mail Flats

* * * * *

3.8 ZIP Code Accuracy

[Delete the title of 3.8.1, Basic Standard, and move the text of 3.8.1 under 3.8 and revise as follows:]

The ZIP Code accuracy standard is a means of ensuring that the 5-digit ZIP Code in the delivery address correctly matches the delivery address information. For the purposes of this standard, address means a specific address associated with a specific 5-digit ZIP Code. Each address in a mailing at Standard Mail flats prices must meet the ZIP Code accuracy requirements in 602.6.0.

[Delete 3.8.2, USPS-Approved Methods, and 3.8.3, Mailer Certification in their entirety.]

* * * * *

3.9 Move Update Standard

3.9.1 Basic Standards

[Revise text of 3.9.1 to read as follows:]

The Move Update standard requires the periodic matching of a mailer's address records with all change-of-address orders maintained by the USPS. For this standard, address is a specific address associated with a specific occupant name. The USPS Guide to Move Update (at ribbs.usps.gov) has more information on the methods for meeting this standard. Each address in a mailing at Standard Mail flats prices must meet the requirements in 602.5.0.

* * * * *

[Delete 3.9.2, USPS-Approved Methods, and 3.9.3, Mailer Certification, in their entirety, and renumber current item 3.9.4 as the new 3.9.2.]

* * * * *

360 Bound Printed Matter

363 Prices and Eligibility

* * * * *

4.0 Price Eligibility for Bound Printed Matter Flats

* * * * *

4.3 ZIP Code Accuracy

[Delete the title of 4.3.1, Basic Standard, and move the text of 4.3.1 under 4.3 and revise as follows:]

The ZIP Code accuracy standard is a means of ensuring that the 5-digit ZIP Code in the delivery address correctly matches the delivery address information. For the purposes of this standard, address means a specific address associated with a specific 5-digit ZIP Code. Each address in a mailing at Bound Printed Matter presorted or carrier route prices must meet the ZIP Code accuracy requirements in 602.6.0.

[Delete 4.3.2, USPS-Approved Methods, and 4.3.3, Mailer Certification, in their entirety.]

* * * * *

400 Commercial Parcels

* * * * *

430 First-Class Mail

433 Prices and Eligibility

* * * * *

3.0 Basic Standards for First-Class Mail Parcels

* * * * *

3.5 Move Update Standard

3.5.1 Basic Standards

[Revise text of 3.5.1 to read as follows:]

The Move Update standard requires the periodic matching of a mailer's address records with all change-of-address orders maintained by the USPS. For this standard, address is a specific address associated with a specific occupant name. The USPS Guide to Move Update (at ribbs.usps.gov) has more information on the methods for meeting this standard. Each address in a mailing at commercial First-Class Mail parcel prices must meet the requirements in 602.5.0.

[Delete 3.5.2, USPS-Approved Methods, and 3.5.3, Mailer Certification, in their entirety and renumber current item 3.5.4 as the new 3.5.2.]

* * * * *

3.6 ZIP Code Accuracy

[Delete the title of 3.6.1, Basic Standard, and move the text of 3.6.1 under 3.6 and revise as follows:]

The ZIP Code accuracy standard is a means of ensuring that the 5-digit ZIP Code in the delivery address correctly matches the delivery address information. For the purposes of this standard, address means a specific address associated with a specific 5-digit ZIP Code. Each address in a mailing at commercial First-Class Mail parcel prices must meet the ZIP Code accuracy requirements in 602.6.0.

[Delete 3.6.2, USPS-Approved Methods, and 3.6.3, Mailer Certification, in their entirety.]

* * * * *

440 Standard Mail

443 Prices and Eligibility

* * * * *

3.0 Basic Standards for Standard Mail Parcels

* * * * *

3.8 ZIP Code Accuracy

[Delete the title of 3.8.1, Basic Standard, and move the text of 3.8.1 under 3.8 and revise as follows:]

The ZIP Code accuracy standard is a means of ensuring that the 5-digit ZIP Code in the delivery address correctly matches the delivery address information. For the purposes of this standard, address means a specific address associated with a specific 5-digit ZIP Code. Each address in a mailing at Standard Mail parcel prices must meet the ZIP Code accuracy requirements in 602.6.0.

[Delete 3.8.2 USPS-Approved Methods, and 3.8.3, Mailer Certification, in their entirety.]

* * * * *

3.9 Move Update Standards

3.9.1 Basic Standards

[Revise text of 3.9.1 to read as follows:]

The Move Update standard requires the periodic matching of a mailer's address records with all change-of-address orders maintained by the USPS. For this standard, address is a specific address associated with a specific occupant name. The USPS Guide to Move Update (at ribbs.usps.gov) has more information on the methods for meeting this standard. Each address in a mailing at Standard Mail parcel prices must meet the requirements in 602.5.0.

* * * * *

[Delete 3.9.2, USPS-Approved Methods, and 3.9.3, Mailer Certification, in their entirety and renumber current 3.9.4 as new 3.9.2.]

* * * * *

460 Bound Printed Matter

463 Prices and Eligibility

* * * * *

4.0 Price Eligibility for Bound Printed Matter Parcels

* * * * *

4.3 ZIP Code Accuracy

[Delete the title of 4.3.1, Basic Standard, and move the text of 4.3.1 under 4.3 and revise as follows:]

The ZIP Code accuracy standard is a means of ensuring that the 5-digit ZIP Code in the delivery address correctly matches the delivery address information. For the purposes of this standard, address means a specific address associated with a specific 5-digit ZIP Code. Each address in a mailing at Bound Printed Matter presorted or carrier route prices must meet the ZIP Code accuracy requirements in 602.6.0.

[Delete 4.3.2, USPS-Approved Methods, and 4.3.3, Mailer Certification, in their entirety.]

* * * * *

600 Basic Standards for All Mailing Services

* * * * *

602 Addressing

* * * * *

[Add new 5.0 and 6.0 as follows:]

5.0 Move Update Standards

5.1 Basic Standards

Each address, except for mail bearing an alternative address format (under 602.3.0), in a mailing at commercial First-Class Mail or any Standard Mail prices is subject to the Move Update standard and must meet these requirements:

a. Each address and associated occupant name used on the mailpieces in a mailing must be updated within 95 days before the mailing date, with one of the USPS-approved methods below.

b. The Move Update standard is met when an address used on a mailpiece in a mailing at any class of mail is updated with an approved method, and the same address is used in a First-Class Mail or Standard Mail mailing within 95 days after the address has been updated.

5.2 USPS-Approved Methods

The following methods are authorized for meeting the Move Update standard:

a. Address Change Service (ACS).

b. National Change of Address Linkage System (NCOA Link).

c. FASTforward MLOCR processes, for letters and flats, if used each time before mail entry. If a mailpiece that initially uses FASTforward MLOCR processing is rejected and then entered into a Direct View Encoding Desk (DVED) operation (or similar system), the piece does not meet the Move Update standard. The name and address information on the piece must then be processed through a FASTforward RVE system to meet the Move Update standard. FASTforward RVE processes also meet the Move Update standard if used each time before mail entry.

d. Applicable ancillary service endorsements under 507.1.5.1 or 507.1.5.3, except “Forwarding Service Requested.”

e. For First-Class Mail only: Mailer Move Update Process Certification and USPS-approved alternative methods for mailers with legitimate restrictions on incorporating USPS-supplied change-of-address information into their mailing lists. The National Customer Support Center (see 608.8.1 for address) administers and approves both Mailer Move Update Process Certification and alternative methods.

5.3 Mailer Certification

The mailer's signature on the postage statement certifies that the Move Update standard has been met for each address in the corresponding mailing presented to the USPS.

6.0 ZIP Code Accuracy Standards

6.1 Basic Standards

Except for mail bearing a simplified address, addresses used on pieces in a mailing at commercial First-Class Mail, and all Standard Mail and Bound Printed Matter prices are subject to the ZIP Code accuracy standard and must meet these requirements:

a. Each address and associated 5-digit ZIP Code used on the mailpieces in a mailing must be verified and corrected within 12 months before the mailing date with one of the USPS-approved methods below.

b. If an address used on a mailpiece in a mailing at one class of mail and price is verified and corrected with an approved method, the same address may be used during the following 12 months to meet the ZIP Code accuracy standard required for mailing at any other class of mail and price.

6.2 USPS-Approved Methods

The following methods are authorized for meeting the ZIP Code accuracy standard:

a. For computerized lists, Coding Accuracy Support System (CASS)-certified address matching software and current USPS City State Product, within a mailer's computer systems or through an authorized service provider.

b. For manually maintained lists or small computerized lists, options include the following:

1. Surveys of addressees on mailers address lists inquiring about the accuracy of ZIP Code information.

2. Any mailing list service in 507.7.0.

3. An authorized service provider.

4. CASS-certified matching software.

5. USPS Web site http://www.usps.com.

6.3 Mailer Certification

The mailer's signature on the postage statement certifies that the ZIP Code accuracy standard has been met for each address in the corresponding mailing presented to the USPS.

* * * * *

We will publish an appropriate amendment to 39 CFR part 111 to reflect these changes if our proposal is adopted.

Stanley F. Mires,
Chief Counsel, Legislative.

[FR Doc. 2011-17390 Filed 7-11-11; 8:45 am]

BILLING CODE 7710-12-P